CONSUMER PRODUCT SAFETY COMMISSION

Sunshine Act Meetings, Cancellation

AGENCY: U.S. Consumer Product Safety Commission

FEDERAL REGISTER CITATION OF PREVIOUS ANNOUNCEMENT: Vol. 78, No. 27, Friday, February 8, 2013, page 9387.

ANNOUNCED TIME AND DATE OF MEETING: Wednesday, February 13, 2013, 10 a.m.-11 a.m.

MEETING CANCELED. For a recorded message containing the latest agenda information, call (301) 504-7948.

CONTACT PERSON FOR ADDITIONAL INFORMATION: Todd A. Stevenson, Office of the Secretary, 4330 East West Highway, Bethesda, MD 20814 (301) 504-7923.

Dated: February 12, 2013.
Todd A. Stevenson,
Secretary.

[FR Doc. 2013-03560 Filed 2-12-13; 4:15 pm]

BILLING CODE 6355-01-P